DEPARTMENT OF COMMERCE

International Trade Administration

The Pennsylvania State University; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m.. and 5 p.m. in Suite 4100W, Franklin Court Building, U.S. Department of Commerce, 1099 14th Street, NW., Washington, DC.

Docket Number: 02-005.

Applicant: The Pennsylvania State University, University Park, PA 16802.

Instrument: Slow Scan CCD Camera, Model TemCam F-224.

Manufacturer: Tietz Video and Image Processing Systems GmbH, Germany.

Intended Use: See notice at 67 FR 10388, March 7, 2002.

Comments: None received.

Decision: Approved. No instrument of equivalent scientific value to the foreign instrument, for such purposes as it is intended to be used, is being manufactured in the United States.

Reasons: The foreign instrument provides hardware and software compatibility and imaging comparability with previous studies by the applicant and with future studies to be performed in collaboration with another institution which uses the foreign camera system. These advantages may not be readily attainable using an otherwise comparable domestic system. This capability is pertinent to the applicant's intended purposes and we know of no other instrument or apparatus of equivalent scientific value to the foreign instrument which is being manufactured in the United States.

Gerald A. Zerdy,
Program Manager, Statutory Import Programs Staff.

[FR Doc. 02-9334 Filed 4-16-02; 8:45 am]

BILLING CODE 3510-DS-P